NATIONAL FOUNDATION ON THE ARTS AND THE HUMANITIES

Federal Council on the Arts and the Humanities; Arts and Artifacts Indemnity Panel Advisory Committee

AGENCY: National Endowment for the Humanities.

ACTION: Notice of meeting.

SUMMARY: Pursuant to the Federal Advisory Committee Act, notice is hereby given that the Federal Council on the Arts and the Humanities will hold two meetings of the Arts and Artifacts Indemnity Panel during May, 2015.

DATES: The meetings will be held on Thursday, May 21, 2015, from 2:00 p.m. to 5:00 p.m. and on Thursday, May 28, 2015 from 12:00 p.m. to 5:00 p.m.

ADDRESSES: The meetings will be held by teleconference originating at the National Endowment for the Arts, Washington, DC 20506.

FOR FURTHER INFORMATION CONTACT: Lisette Voyatzis, Committee Management Officer, 400 7th Street SW., Room 4060, Washington, DC 20506; (202) 606-8322; evoyatzis@neh.gov. Hearing-impaired individuals who prefer to contact us by phone may use NEH's TDD terminal at (202) 606-8282.

SUPPLEMENTARY INFORMATION: The purpose of the meetings is for panel review, discussion, evaluation, and recommendation on applications for Certificates of Indemnity submitted to the Federal Council on the Arts and the Humanities, for exhibitions beginning on or after July 1, 2015. The meeting held May 21, 2015, will discuss applications for Certificates for domestic exhibitions and the meeting held May 28, 2015, will discuss applications for Certificates for international exhibitions. Because the meeting will consider proprietary financial and commercial data provided in confidence by indemnity applicants, and material that is likely to disclose trade secrets or other privileged or confidential information, and because it is important to keep the values of objects to be indemnified, and the methods of transportation and security measures confidential, I have determined that that the meeting will be closed to the public pursuant to subsection (c)(4) of section 552b of Title 5, United States Code. I have made this determination under the authority granted me by the Chairman's Delegation of Authority to Close Advisory Committee Meetings, dated July 19, 1993.

Dated: April 27, 2015.
Lisette Voyatzis,
Committee Management Officer.

[FR Doc. 2015-10137 Filed 4-30-15; 8:45 am]

BILLING CODE 7536-01-P